Proclamation 10180 of April 13, 2021

160th Anniversary of the Unification of Italy and the Establishment of United States-Italy Diplomatic Relations

By the President of the United States of America

A Proclamation

Today we commemorate over 160 years since the unification of Italy as a single state and the establishment of United States-Italy diplomatic relations. Our nations share a deep and enduring friendship, bolstered by the bonds of family and culture that tie our peoples together. It is a particularly meaningful relationship for the millions of proud Americans who trace their ancestry to Italy, including my wife Jill. On this anniversary, we celebrate the long-standing partnership we have with Italy, including our commitment in the post-World War II era to enhance our mutual prosperity and security and to advance our core democratic values, including human rights.

This is also a moment to reaffirm the willingness of the United States and Italy to meet the challenges of the future together. We are steadfast NATO Allies and anchors of the trans-Atlantic partnership. Italy is a leader in peacekeeping missions and security operations around the world. As we strive together to overcome new challenges, from defeating the COVID-19 pandemic and fueling an equitable global economic recovery to meeting the existential threat of climate change, the United States and Italy remain close friends and vital allies.

NOW, THEREFORE, I, JOSEPH R. BIDEN JR., President of the United States of America, by virtue of the authority vested in me by the Constitution and the laws of the United States, do hereby proclaim April 13 as a day to celebrate over 160 years since the unification of Italy and the establishment of United States-Italy diplomatic relations. I encourage all Americans to honor the enduring friendship between the people of Italy and the people of the United States.

IN WITNESS WHEREOF, I have hereunto set my hand this thirteenth day of April, in the year of our Lord two thousand twenty-one, and of the Independence of the United States of America the two hundred and forty-fifth.

[FR Doc. 2021-08012

Filed 4-15-21; 8:45 am]

Billing code 3295-F1-P